POSTAL SERVICE

Transfer of First-Class Mail® Parcels to the Competitive Product List

AGENCY: Postal Service™.

ACTION: Notice.

SUMMARY: The Postal Service hereby provides notice that it has filed a request with the Postal Regulatory Commission to transfer First-Class Mail Parcels from the Mail Classification Schedule's Market-Dominant Product List to its Competitive Product List.

DATES: Effective date: November 25, 2014.

FOR FURTHER INFORMATION CONTACT: John F. Rosato, 202-268-8597, or john.f.rosato@usps.gov.

SUPPLEMENTARY INFORMATION: On November 14, 2014 the United States Postal Service® filed a request with the Postal Regulatory Commission to transfer First-Class Mail Parcels from the Mail Classification Schedule's market-dominant product list to its competitive product list, pursuant to 39 U.S.C. 3642. The transfer would: (1) Remove First-Class Mail Parcels from the Market-Dominant Product List; and (2) replace it with a new “retail” subcategory within the competitive product list's First-Class Package Service product. The new retail subcategory would provide the same service standards and pricing structure as the current First-Class Mail Parcels product. Documents pertinent to this request are available at http://www.prc.gov, Docket No. MC2015-7.

Stanley F. Mires,
Attorney, Federal Requirements.

[FR Doc. 2014-27806 Filed 11-24-14; 8:45 am]

BILLING CODE 7710-12-P